DEPARTMENT OF COMMERCE

National Oceanic and Atmospheric Administration

[I.D. 030805B]

Endangered Species; File No. 1510

AGENCY: National Marine Fisheries Service (NMFS),National Oceanic and Atmospheric Administration (NOAA), Commerce.

ACTION: Issuance of permit.

SUMMARY: Notice is hereby given that the Liberty Science Center (Richard Weddle, Principal Investigator), 251 Phillip Street, Jersey City, New Jersey 07305, has been issued a permit to take shortnose sturgeon (Acipenser brevirostrum) for purposes of enhancement through educational display.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

FOR FURTHER INFORMATION CONTACT: Jennifer Jefferies or Amy Sloan, (301)713-2289.

SUPPLEMENTARY INFORMATION: On December 15, 2004, notice was published in the Federal Register (69 FR 75047) that a request for an enhancement permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The Liberty Science Center is authorized to receive and use five individual, captive-bred, non-releaseable shortnose sturgeon for an educational display exhibit. This project of displaying endangered captive bred shortnose sturgeon responds directly to a recommendation of the NMFS recovery outline for this species. In addition, the facility will formulate a public education program and exhibit to increase awareness of the shortnose sturgeon and its status. This project will educate the public on shortnose sturgeon life history and the reason for its declining numbers.

Issuance of this permit, as required by the ESA, was based on a finding that this permit (1) was applied for in good faith, (2) will not operate to the disadvantage of the endangered species which is the subject of the permit, and (3) is consistent with the purposes and policies set forth in section 2 of the ESA.

Dated: March 31, 2005.
Stephen L. Leathery,
Chief, Permits, Conservation and Education Division, Office of Protected Resources, National Marine Fisheries Service.

[FR Doc. 05-6938 Filed 4-6-05; 8:45 am]

BILLING CODE 3510-22-S